NUCLEAR REGULATORY COMMISSION

[Docket No. 40-8905]

Notice of Availability of Environmental Assessment and Finding of No Significant Impact for License Amendment for Rio Algom Mining, LLC

AGENCY: Nuclear Regulatory Commission.

ACTION: Notice of availability.

FOR FURTHER INFORMATION CONTACT: Robert A. Nelson, Chief, Uranium Processing Section, Fuel Cycle Facilities Branch, Division of Fuel Cycle Safety and Safeguards, Office of Nuclear Material Safety and Safeguards, U.S. Nuclear Regulatory Commission, Washington, DC 20555-0001. Telephone: (301) 415-7298 fax number: (301) 415-5955; e-mail: ran@nrc.gov.

SUPPLEMENTARY INFORMATION:

I. Introduction

The Nuclear Regulatory Commission (NRC) is issuing an amendment to Materials License No. SUA-1475 issued to Rio Algom Mining, LLC (the licensee), to authorize the consolidating and transporting of materials associated with the lined evaporation ponds at its Ambrosia Lake facility near Grants, NM. NRC has prepared an Environmental Assessment (EA) in support of this amendment in accordance with the requirements of 10 CFR Part 51. Based on the EA, the NRC has concluded that a Finding of No Significant Impact (FONSI) is appropriate. The amendment will be issued following the publication of this Notice.

II. EA Summary

The proposed action is the relocation of the lined evaporation ponds (Section 4 Ponds and Pond 9) at the Ambrosia Lake facility. The action includes the consolidation and removal of byproduct material, transport of the material to the disposal site and disposal of material in accordance with NRC regulations.

In a letter dated November 1, 2004, Rio Algom Mining, LLC (Rio Algom) submitted to the NRC, a Closure Plan-Lined Evaporation Ponds (Relocation Plan) for its Ambrosia Lake uranium mill facility. In a follow-up to the proposed plan, Rio Algom submitted, under letter dated January 28, 2005, a response to a request for additional information and a Revised Relocation Plan. Rio Algom requested that the Revised Relocation Plan be considered initially by NRC so that work can commence at the site. The staff has prepared the EA in support of the proposed license amendment. Staff considered impacts to the land surface, water, air, vegetation, public and worker health and safety, cultural resources, wildlife, and wildlife habitat. The staff found that the potential impacts of the proposed action are limited to the land surface and are temporary due to construction activities. The site Health, Safety and Environment Management System provides adequate assurances to control impacts to the environment. The proposed action will not result in adverse impacts to cultural and historic properties or impact any threatened or endangered species. The overall aesthetics of the area will improve.

III. Finding of No Significant Impact

On the basis of the EA, NRC has concluded that there are no significant environmental impacts from the proposed amendment and has determined not to prepare an environmental impact statement.

IV. Further Information

Documents related to this action, including the application for amendment and supporting documentation, are available electronically at the NRC's Electronic Reading Room at http://www.nrc.gov/reading-rm/adams.html. From this site, you can access the NRC's Agencywide Document Access and Management System (ADAMS), which provides text and image files of NRC's public documents. The ADAMS accession numbers for the documents related to this notice are as follows:

Document | ADAMS accession No. | Date
Rio Algom Mining LLC, “Closure Plan-Lined Evaporation Ponds” | ML050240058 | 11/1/04
Rio Algom Mining LLC, “Response to Request for Additional Information for Closure Plan—Lined Evaporation Ponds at Rio Algom Mining LLC's Ambrosia Lake Facility” | ML050730258 | 1/28/05
U.S. Fish and Wildlife Service Letter to J. Caverly | ML042780480 | 9/20/04
State of New Mexico Environment Department Letter to G. Janosko | ML051570252 | 4/22/05
Rio Algom Mining, LLC, “Response to Request for Additional Information Concerning Environmental Review” | ML051670429 | 6/15/05
Environmental Assessment | ML051680226 | 6/17/05

If you do not have access to ADAMS or if there are problems in accessing the documents located in ADAMS, contact the NRC's Public Document Room (PDR) reference staff at 1-800-397-4209, 301-415-4737, or by e-mail to pdr@nrc.gov.

These documents may also be viewed electronically on the public computers located at the NRC's PDR, O 1 F21, One White Flint North, 11555 Rockville Pike, Rockville, MD 20852. The PDR reproduction contractor will copy documents for a fee.

Dated at Rockville, MD this 17th day of June, 2005.
For the Nuclear Regulatory Commission.
Robert A. Nelson,
Chief, Uranium Processing Section, Fuel Cycle Facilities Branch, Division of Fuel Cycle Safety and Safeguards, Office of Nuclear Material Safety and Safeguards.

[FR Doc. E5-3291 Filed 6-23-05; 8:45 am]

BILLING CODE 7590-01-P